DEPARTMENT OF AGRICULTURE

Submission for OMB Review; Comment Request

June 11, 2012.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Conservation Reserve Program (CRP) North Dakota (ND) and South Dakota (SD) Hunter Expenditure & Valuation Survey.

OMB Control Number: 0560-NEW.

Summary of Collection: The North Dakota (ND) and South Dakota (SD) Hunter Expenditure & Valuation Survey is being developed to comply with the regulations of 6 U.S.C. 3831 as specified in the “Study on Economic Effects” section and Food, Conservation, Energy Act of 2008 (Farm Bill Pub. L. 110-246). The Farm Service Agency (FSA) has determined that the only way to get the economic impact and valuation of hunter use of lands enrolled in CRP is by surveying licensed deer, upland game bird and waterfowl hunters. Hunting is a major component of recreational use of CRP. Furthermore, FSA is providing the services to the landowners under the CRP to help them conserve and improve soil, water, and wildlife resources on their lands.

Need and Use of the Information: The ND and SD Hunter Expenditure and Valuation Survey will be mailed to licensed deer, upland game bird and waterfowl hunter in ND and SD. The survey is needed to estimate the amount of hunting, hunter expenditures, and the value of the hunting that is occurring on CRP lands. Collection of date is necessary to evaluate and improve CRP lands selection criteria and program implementation. The results will be used to estimate the income, employment and net economic value of enhanced wildlife populations on CRP lands to hunters in ND and SD to evaluate the benefits of the CRP program. Without data on hunter use and expenditures, the economic contribution generated by the federal investment in CRP cannot be reliability estimated.

Description of Respondents: Individuals or households.

Number of Respondents: 3,000.

Frequency of Responses: Reporting: Other (one-time).

Total Burden Hours: 990.

Ruth Brown,
Departmental Information Collection Clearance Officer.

[FR Doc. 2012-14604 Filed 6-14-12; 8:45 am]

BILLING CODE 3410-05-P